DEPARTMENT OF THE INTERIOR

National Park Service

Flight 93 National Memorial Advisory Commission

AGENCY: National Park Service, Interior.

ACTION: Notice of August 7, 2010, meeting.

SUMMARY: This notice sets forth the date of the August 7, 2010, meeting of the Flight 93 Advisory Commission.

DATES: The public meeting of the Advisory Commission will be held on Saturday, August 7, 2010, from 10 a.m. to 1 p.m. (Eastern). The Commission will meet jointly with the Flight 93 Memorial Task Force.

Location: The meeting will be held at the Somerset County Courthouse, Court Room #1, located at 111 E. Union Street, Somerset, PA 15501.

Agenda

The August 7, 2010, joint Commission and Task Force meeting will consist of:

1. Opening of Meeting and Pledge of Allegiance.

2. Review and Approval of Commission Minutes from May 1, 2010.

3. Reports from the Flight 93 Memorial Task Force and National Park Service.

4. Old Business.

5. New Business.

6. Public Comments.

7. Closing Remarks.

FOR FURTHER INFORMATION CONTACT: Joanne M. Hanley, Superintendent, Flight 93 National Memorial, 109 West Main Street, Somerset, PA 15501, 814.443.4557.

SUPPLEMENTARY INFORMATION: The meeting will be open to the public. Any member of the public may file with the Commission a written statement concerning agenda items. Address all statements to: Flight 93 Advisory Commission, 109 West Main Street, Somerset, PA 15501. Before including your address, phone number, e-mail address, or other personal identifying information in your comment, you should be aware that your entire comment—including your personal identifying information—may be made publicly available at any time. While you can ask us in your comment to withhold your personal identifying information from public review, we cannot guarantee that we will be able to do so.

Dated: June 24, 2010.
Joanne M. Hanley,
Superintendent, Flight 93 National Memorial.

[FR Doc. 2010-18011 Filed 7-22-10; 8:45 am]

BILLING CODE P